DEPARTMENT OF THE INTERIOR

Bureau of Land Management

[UT-080-05-1310-EJ]

Notice of Intent To Prepare an Environmental Impact Statement for the Gasco Production Company Natural Gas Field Development, Duchesne and Uintah Counties, UT

AGENCY: Bureau of Land Management, Interior.

ACTION: Notice of Intent to conduct public scoping and to prepare an Environmental Impact Statement (EIS) for the Gasco Natural Gas Field Development, Duchesne and Uintah Counties, Utah.

SUMMARY: Pursuant to section 102(2)(C) of the National Environmental Policy Act of 1969, the Bureau of Land Management (BLM), Vernal Field Office, Vernal, Utah, will prepare an EIS on the proposed expansion of existing natural gas field development operations. The EIS area encompasses approximately 236,165 acres predominately in the West Tavaputs Exploration and Development Area with some overlap into the Monument Butte-Red Wash, and East Tavaputs Exploration and Development Areas. The project is located primarily on BLM administered lands (203,357 acres). The project area also includes lands administered by the State of Utah (27,765 acres), and several private landowners (5,043 acres). Gasco has mineral lease rights underlying both the public and private lands. The Vernal Field Office Manager will be the authorized officer for this project.

DATES: This notice announces the public scoping process. A public scoping period of at least 30 days will commence on the date this notice is published in the Federal Register. Comments on issues, potential impacts, or suggestions for additional alternatives can be submitted in writing to the address listed below within 30 days of the date this Notice is published, or within 15 days after the last public meeting is held. Public open meetings will be conducted during the scoping period in Vernal, Duchesne, and Price, Utah. All public meetings will be announced through the local news media at least 15 days prior to the event. In addition, formal opportunities for public participation will be provided through comment on the alternatives and upon publication of the BLM Draft EIS.

ADDRESSES: Written scoping comments should be sent to the Environmental Coordinator, Bureau of Land Management, Vernal Field Office, 170 South 500 East, Vernal, Utah 84078, ATTN: Gasco Field Development EIS; Fax 435-781-4410. Documents pertinent to this proposal may be examined at the Vernal Field Office located in Vernal, Utah. Comments, including names and street addresses of respondents, will be available for public review at the Vernal Field Office located in Vernal, Utah during regular business hours 7:45 a.m. to 4:30 p.m., Monday through Friday, except holidays, and will be subject to disclosure under the Freedom of Information Act (FOIA). They may be published as part of the EIS and other related documents. Individual respondents may request confidentially. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: For further information and/or to have your name added to our mailing list, contact Stephanie Howard, 435-781-4469.

SUPPLEMENTARY INFORMATION: Gasco Production Company proposes to expand its operations by drilling 1,538 wells within the Monument Butte-Red Wash, West Tavaputs, and East Tavaputs Exploration and Development Areas (as delineated in the Draft Vernal RMP) through the year 2020 based on a 40, 80, and 160 acre spacing pattern. This EIS is directly north of, but not related to, the West Tavaputs EIS that is ongoing in the Price Field Office BLM. Estimated new surface disturbance associated with the construction of well pads, new access roads, and pipelines would be approximately 10,302 acres. Existing roads within the project area and approximately 400 miles of newly constructed roads would provide the primary access routes to the new well sites. Approximately 525 miles of pipelines would be constructed and buried where conditions allow. Additional compression and processing facilities will be required to accommodate the new wells.

Major issues include potential impacts to special status plants and animals, vegetation, socio-economics, cultural resources, air quality, and soils. The EIS will consider and analyze potential impacts of natural gas development at the levels projected by Gasco, or as refined during the scoping process. This analysis will include a site-specific evaluation of Gasco's proposal and an appropriate range of alternatives. Alternatives identified at this time include the proposed action and the no action alternatives. Additional alternatives such as application of additional mitigation measures based on best management practices and/or higher well density may be developed if necessary based on issues and concerns identified through the scoping process.

The management of BLM public lands and resources encompassed by the project area is directed and guided by the BLM's Record of Decision for the Diamond Mountain Resource Management Plan. The majority of the proposed project lies within an area that was previously partially developed for oil and gas production and is designated as Category 2 for oil and gas leasing by the BLM. Category 2 areas are those that are open to oil and gas leasing with stipulations to protect sensitive surface resources.

Dated: October 26, 2005.
William Stringer,
Field Manager, Vernal Field Office.

[FR Doc. E6-1868 Filed 2-9-06; 8:45 am]

BILLING CODE 4310-DQ-P